ENVIRONMENTAL PROTECTION AGENCY

[EPA-HQ-OPPT-2017-0692; FRL-11741-01-OMS]

Agency Information Collection Activities; Submission to the Office of Management and Budget for Review and Approval; Comment Request; Lead Training, Certification, Accreditation and Authorization Activities (Renewal)

AGENCY: Environmental Protection Agency (EPA).

ACTION: Notice.

SUMMARY: The Environmental Protection Agency (EPA) has submitted an information collection request (ICR), “Lead Training, Certification, Accreditation and Authorization Activities,” (EPA ICR No. 2507.05 and OMB Control No. 2070-0195) to the Office of Management and Budget (OMB) for review and approval in accordance with the Paperwork Reduction Act. This is a proposed extension of the ICR which is currently approved through February 29, 2024. Public comments were previously requested via the Federal Register on April 26, 2023. This notice allows for an additional 30 days for public comments.

DATES: Comments may be submitted on or before April 1, 2024.

ADDRESSES: Submit your comments, referencing Docket ID Number EPA-HQ-OPPT-2017-0692, to EPA online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Office of Program Support (7602M), Office of Chemical Safety and Pollution Prevention, Environmental Protection Agency, 1200 Pennsylvania Ave. NW, Washington, DC 20460; telephone number: (202) 566-1204; email address: sleasman.katherine@epa.gov.

SUPPLEMENTARY INFORMATION: This is a proposed extension of the ICR which is currently approved through February 29, 2024. An agency may not conduct or sponsor and a person is not required to respond to a collection of information unless it displays a currently valid OMB control number.

Public comments were previously requested via the Federal Register on April 26, 2023, during a 60-day comment period (88 FR 25401). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR renewal will cover the information collection activities associated with the reporting and recordkeeping requirements for individuals, firms and state and local government entities conducting lead-based paint (LBP) activities or renovations of target housing and child-occupied facilities (COFs); training providers; and states/territories/tribes/Alaskan native villages.

Form numbers: 8500-25, 8500-27, 747-B-99-002, 9600-050, 9600-051, and 9600-052.

Respondents/affected entities: Entities potentially affected by this ICR include persons who are engaged in LBP activities and/or perform renovations of target housing or COFs for compensation, dust sampling, or dust testing; or who perform LBP inspections, lead hazard screens, risk assessments or abatements in target housing or COFs; or who provide training or operate a training program for individuals who perform any of these activities; or state, territorial or Native American agencies that administer LBP activities and/or renovation programs.

Respondent's obligation to respond: Mandatory (40 CFR part 745).

Estimated number of respondents: 441,034 (total).

Frequency of response: On occasion.

Total estimated burden: 6,273,748 hours (per year). Burden is defined at 5 CFR 1320.3(b).

Total estimated cost: $360,166,618 (per year), which includes $17,400,556 annualized capital or operation & maintenance costs.

Changes in the estimates: There is an increase of 1,022,428 hours in the total estimated respondent burden compared with the ICR currently approved by OMB. This increase reflects several adjustments to the estimates including revisions to the estimated number of respondents based on the number of respondents reporting to EPA for the prior information collection and revisions based on other market factors. Changes in burden estimates reflect changes within the housing renovation market, as measured by EPA's FLPP database, which tracks LBP and RRP activity over time, as reported to the Agency. This change is an adjustment.

Courtney Kerwin,
Director, Information Engagement Division.

[FR Doc. 2024-04154 Filed 2-28-24; 8:45 am]

BILLING CODE 6560-50-P